DEPARTMENT OF LABOR

Employment and Training Administration

[TA-W-41,274]

Azon Corporation, Johnson City, NY; Notice of Negative Determination Regarding Application for Reconsideration

By application postmarked July 2, 2002, a petitioner requested administrative reconsideration of the Department's negative determination regarding eligibility for workers and former workers of the subject firm to apply for Trade Adjustment Assistance (TAA). The denial notice applicable to workers of Azon Corporation, Johnson City, New York was issued on May 31, 2002, and was published in the Federal Register on June 21, 2002 (67 FR 42285).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The investigation revealed that criterion (3) of the group eligibility requirements of Section 222 of the Trade Act of 1974 was not met. The “contributed importantly” test is generally demonstrated through a survey of customers of the workers' firm. The survey revealed that none of the respondents imported coated and converted paper and film during the relevant period. The investigation further revealed that the company did not import products like or directly competitive with coated and converted paper and film during the relevant period.

The request for reconsideration claims a major customer switched from buying from the subject firm in favor of purchasing products like or directly competitive with what the subject plant produced from a competitor that was headquartered in the Netherlands.

A review of data supplied during the initial investigation shows that the specified competitor was in fact headquartered in the Netherlands. However, the products sold by the competitor were produced in the United States. Therefore, the fact that the company was headquartered in the Netherlands is not relevant, since the competitor did not import the products back to the United States during the relevant period.

Conclusion

After review of the application and investigative findings, I conclude that there has been no error or misinterpretation of the law or of the facts which would justify reconsideration of the Department of Labor's prior decision. Accordingly, the application is denied.

Signed at Washington, DC, this 26th day of July 2002.
Edward A. Tomchick,
Director, Division of Trade Adjustment Assistance.

[FR Doc. 02-20198 Filed 8-8-02; 8:45 am]

BILLING CODE 4510-30-P